DEPARTMENT OF THE TREASURY

31 CFR Part 1

Treasury Inspector General for Tax Administration; Privacy Act of 1974; Proposed Implementation

AGENCY: Departmental Offices, Treasury.

ACTION: Proposed rule.

SUMMARY: In accordance with the requirements of the Privacy Act of 1974, 5 U.S.C. 552a, the Department of Treasury gives notice of a proposed amendment to this part to exempt several systems of records maintained by the Treasury Inspector General for Tax Administration (TIGTA) from certain provisions of the Privacy Act.

DATES: Comments must be received no later than October 22, 2003.

ADDRESSES: Please submit comments to Lori Creswell, Assistant Chief Counsel, Treasury Inspector General for Tax Administration, 1125 15th Street, Room 700A, Washington, DC 20005, 202-622-4068. Comments will be made available for inspection and/or copying upon written request.

FOR FURTHER INFORMATION CONTACT: Lori Creswell, Assistant Chief Counsel, Treasury Inspector General for Tax Administration, 1125 15th Street, Room 700A, Washington, DC 20005, 202-622-4068.

SUPPLEMENTARY INFORMATION: The Treasury Inspector General for Tax Administration (TIGTA) was established pursuant to the Internal Revenue Service Restructuring and Reform Act of 1998. TIGTA's duties and operating authority are set forth in the Inspector General Act of 1978, 5 U.S.C app. 3. TIGTA exercises all duties and responsibilities of an Inspector General with respect to the Department and the Secretary on all matters relating to the Internal Revenue Service (IRS). TIGTA conducts, supervises, and coordinates audits and investigations relating to the programs and operations of the IRS and related entities. TIGTA is organizationally placed within the Department of the Treasury, but is independent of the Department and all other Treasury offices.

The Department of the Treasury is publishing separately the notice of new systems of records to be maintained by TIGTA.

Under 5 U.S.C. 552a(j)(2), the head of a Federal agency may promulgate rules to exempt a system of records from certain provisions of 5 U.S.C. 552a if the system of records is “maintained by an agency or component thereof which performs as its principal function any activity pertaining to the enforcement of criminal laws, including police efforts to prevent, control, or reduce crime or to apprehend criminals, and the activities of prosecutors, courts, correctional, probation, pardon or parole authorities, and which consists of (A) information compiled for the purpose of identifying individual criminal offenders and alleged offenders and consisting only of identifying data and notations of arrests, the nature and disposition of criminal charges, sentencing, confinement, release, and paroled and probation status; (B) information compiled for the purpose of criminal investigation, including reports of informants and investigators, and associated with an identifiable individual; or (C) reports identifiable to an individual compiled at any state of the process of enforcement of the criminal laws from arrest or indictment through release from supervision.”

To the extent that these systems of records contain investigative material within the provisions of 5 U.S.C. 552a(j)(2), the Department of the Treasury proposes to exempt the following systems of records from various provisions of the Privacy Act pursuant to 5 U.S.C. 552a(j)(2):

DO .303-TIGTA General Correspondence;

DO .307-TIGTA Employee Relations Matters, Appeals, Grievances, and Complaint Files;

DO .308-TIGTA Data Extracts;

DO .309-TIGTA Chief Counsel Case Files, and

DO .310-TIGTA Chief Counsel Disclosure Section Records.

The proposed exemption under 5 U.S.C. 552a(j)(2) for the above-referenced systems of records is from provisions 5 U.S.C. 552a(c)(3), (c)(4), (d), (d)(4), (e)(1), (e)(2), (e)(3), (e)(4)(G), (e)(4)(H), (e)(4)(I), (e)(5), (e)(8), (f), and (g).

The following are the reasons why the investigative material contained in the above-referenced systems of records maintained by TIGTA are exempt from various provisions of the Privacy Act pursuant to 5 U.S.C. 552a(j)(2).

(1) 5 U.S.C. 552a(e)(4)(G) and (f)(l) enable individuals to inquire whether a system of records contains records pertaining to themselves. Disclosure of this information to the subjects of investigations would provide individuals with information concerning the nature and scope of any current investigation. Further, providing information as required by this provision would alert the individual to the existence of an investigation and afford the individual an opportunity to attempt to conceal his/her criminal activities so as to avoid apprehension and may enable the individual to avoid detection or apprehension, enable the destruction or alteration of evidence of the criminal conduct that would form the basis for an arrest, and could impede or impair TIGTA's ability to investigate the matter. In addition, to provide this type of information would give individuals an opportunity to learn whether they have been identified as subjects of investigation.

(2) 5 U.S.C. 552a(d)(1), (e)(4)(H) and (f)(2), (3) and (5) grant individuals access to records pertaining to themselves. Disclosure of this information to the subjects of an investigation would provide them with information concerning the nature and scope of any current investigation and may enable them to avoid detection or apprehension, enable them to destroy or alter evidence of criminal conduct that would form the basis for their arrest, and could impede or impair TIGTA's ability to investigate the matter. In addition, permitting access to investigative files and records could disclose the identity of confidential sources and the nature of the information supplied by the informant as well as endanger the physical safety of those sources by exposing them to possible reprisal for having provided the information. Confidential sources and informers might refuse to provide TIGTA with valuable information unless they believed that their identities would not be revealed through disclosure of their names or the nature of the information they supplied. Loss of access to such sources would seriously impair TIGTA's ability to perform its law enforcement responsibilities. Furthermore, providing access to records contained in the systems of records could reveal the identities of undercover law enforcement officers who compiled information regarding the individual's criminal activities, and thereby endanger the physical safety of those undercover officers by exposing them to possible reprisals. Permitting access in keeping with these provisions would also discourage other law enforcement and regulatory agencies from freely sharing information with TIGTA and thus would restrict its access to information necessary to accomplish its mission most effectively.

(3) 5 U.S.C. 552a(d)(2), (3) and (4), (e)(4)(H), and (f)(4) permit an individual to request amendment of a record pertaining to the individual and require the agency either to amend the record, or to note the disputed portion of the record, and to provide a copy of the individual's statement of disagreement with the agency's refusal to amend a record to persons or other agencies to whom the record is thereafter disclosed. Since these provisions depend upon the individual having access to his or her records, and since these rules exempt the systems of records from the provisions of 5 U.S.C. 552a relating to access to records, for the reasons set out in the preceding paragraph of this section, these provisions should not apply to the above-listed systems of records.

(4) 5 U.S.C. 552a(c)(3) requires an agency to make accountings of disclosures of a record available to the individual named in the record upon his or her request. Making accountings of disclosures available to the subjects of investigations would alert them to the fact that TIGTA is conducting an investigation into their activities as well as identify the nature, scope, and purpose of that investigation. Providing accountings to the subjects of investigations would alert them to the fact that the TIGTA has information regarding their activities and could inform them of the general nature of that information. The subjects of the investigations, if provided an accounting of disclosures would be able to take measures to avoid detection or apprehension by altering their operations or by destroying or concealing evidence that would form the basis for detection or apprehension.

(5) 5 U.S.C. 552a(c)(4) requires an agency to inform any person or other agency about any correction or notation of dispute that the agency made in accordance with 5 U.S.C. 552a(d) to any record that the agency disclosed to the person or agency if an accounting of the disclosure was made. Since this provision depends on an individual's having access to and an opportunity to request amendment of records pertaining to the individual, and since these rules exempt the systems of records from the provisions of 5 U.S.C. 552a relating to access to, and amendment of, records, for the reasons set out in paragraph (2) of this section, this provision should not apply to these systems of records.

(6) 5 U.S.C. 552a(e)(4)(I) requires an agency to publish a general notice listing the categories of sources for information contained in a system of records. Revealing sources of information could disclose investigative techniques and procedures, result in threats or reprisals against confidential informants by the subjects of investigations, and cause confidential informants to refuse to give full information to criminal investigators for fear of having their identities as sources disclosed.

(7) 5 U.S.C. 552a(e)(1) requires an agency to maintain in its records only such information about an individual as is relevant and necessary to accomplish a purpose of the agency required to be accomplished by statute or executive order. The term “maintain,” as defined in 5 U.S.C. 552a(a)(3), includes “collect” and “disseminate.” The application of this provision could impair TIGTA's ability to collect and disseminate valuable law enforcement information. In the early stages of an investigation, it may be impossible to determine whether information collected is relevant and necessary, and information that initially appears irrelevant and unnecessary often may, upon further evaluation or upon review of information developed subsequently, prove particularly relevant to a law enforcement program. Compliance with the records maintenance criteria listed in the foregoing provision would require TIGTA to periodically up-date the investigatory material it collects and maintains in these systems to ensure that the information remains timely and complete. Further, TIGTA oftentimes will uncover evidence of violations of law that fall within the investigative jurisdiction of other law enforcement agencies. To promote effective law enforcement, TIGTA will refer this evidence to other law enforcement agencies, including State, local and foreign agencies, that have jurisdiction over the offenses to which the information relates. If required to adhere to the provisions of 5 U.S.C. 552a(e)(1), TIGTA might be placed in the position of having to ignore information relating to violations of law not within its jurisdiction when that information comes to TIGTA's attention during the collection and analysis of information in its records.

(8) 5 U.S.C. 552a(e)(2) requires an agency to collect information to the greatest extent practicable directly from the subject individual when the information may result in adverse determinations about an individual's rights, benefits, and privileges under Federal programs. The application of this provision to the above-referenced systems of records would impair TIGTA's ability to collect, analyze, and disseminate investigative, intelligence, and enforcement information. During criminal investigations it is often a matter of sound investigative procedure to obtain information from a variety of sources to verify the accuracy of the information obtained. TIGTA often collects information about the subject of a criminal investigation from third parties, such as witnesses and informants. It is usually not feasible to rely upon the subject of the investigation as a credible source for information regarding his or her alleged criminal activities. An attempt to obtain information from the subject of a criminal investigation will often alert that individual to the existence of an investigation, thereby affording the individual an opportunity to attempt to conceal his criminal activities so as to avoid apprehension.

(9) 5 U.S.C. 552a(e)(3) requires an agency to inform each individual, whom it asks to supply information, of the agency's authority for soliciting the information, whether disclosure of information is voluntary or mandatory, the principal purposes for which the agency will use the information, the routine uses that may be made of the information, and the effects on the individual of not providing all or part of the information. The above-referenced systems of records should be exempted from these provisions to avoid impairing TIGTA's ability to collect and maintain investigative material. Confidential sources or undercover law enforcement officers often obtain information under circumstances in which it is necessary to keep the true purpose of their actions secret so as not to let the subject of the investigation or his or her associates know that a criminal investigation is in progress. Further, application of this provision could result in an unwarranted invasion of the personal privacy of the subject of the criminal investigation, particularly where further investigation reveals that the subject was not involved in any criminal activity.

(10) 5 U.S.C. 552a(e)(5) requires an agency to maintain all records it uses in making any determination about any individual with such accuracy, relevance, timeliness, and completeness as is reasonably necessary to assure fairness to the individual in the determination. Since 5 U.S.C. 552a(a)(3) defines “maintain” to include “collect” and “disseminate,” application of this provision to the systems of records would hinder the initial collection of any information that could not, at the moment of collection, be determined to be accurate, relevant, timely, and complete. In collecting information during a criminal investigation, it is often neither possible nor feasible to determine accuracy, relevance, timeliness, or completeness at the time that the information is collected. Information that may initially appear inaccurate, irrelevant, untimely, or incomplete may, when analyzed with other available information, become more relevant as an investigation progresses. Compliance with the records maintenance criteria listed in the foregoing provision would require the periodic review of TIGTA's investigative records to insure that the records maintained in the system remain timely, accurate, and complete.

(11) 5 U.S.C. 552a(e)(8) requires an agency to make reasonable efforts to serve notice on an individual when the agency makes any record on the individual available to any person under compulsory legal process, when such process becomes a matter of public record. The above-referenced systems of records should be exempted from this provision to avoid revealing investigative techniques and procedures outlined in those records and to prevent revelation of the existence of an ongoing investigation where there is need to keep the existence of the investigation secret.

(12) 5 U.S.C. 552a(g) provides for civil remedies to an individual when an agency wrongfully refuses to amend a record or to review a request for amendment, when an agency wrongfully refuses to grant access to a record, when an agency fails to maintain accurate, relevant, timely, and complete records which are used to make a determination adverse to the individual, and when an agency fails to comply with any other provision of 5 U.S.C. 552a so as to adversely affect the individual. The investigatory information in the above-referenced systems of records should be exempted from this provision to the extent that the civil remedies may relate to provisions of 5 U.S.C. 552a from which these rules exempt the systems of records, since there should be no civil remedies for failure to comply with provisions from which TIGTA is exempted. Exemption from this provision will also protect TIGTA from baseless civil court actions that might hamper its ability to collect, analyze, and disseminate investigative, intelligence, and law enforcement data.

Under 5 U.S.C. 552a(k)(2), the head of a Federal agency may promulgate rules to exempt a system of records from certain provisions of 5 U.S.C. 552a if the system of records is “investigatory material compiled for law enforcement purposes, other than material within the scope of subsection (j)(2).” To the extent that these systems of records contain investigative material within the provisions of 5 U.S.C. 552a(k)(2), the Department of the Treasury proposes to exempt the following systems of records from various provisions of the Privacy Act pursuant to 5 U.S.C. 552a(k)(2):

DO .303-TIGTA General Correspondence;

DO .307-TIGTA Employee Relations Matters, Appeals, Grievances, and Complaint Files;

DO .308-TIGTA Data Extracts;

DO .309-TIGTA Chief Counsel Case Files, and

DO .310-TIGTA Chief Counsel Disclosure Section Records.

The proposed exemption under 5 U.S.C. 552a(k)(2) for the above-referenced systems of records is from provisions 5 U.S.C. 552a(c)(3), (d), (e)(1), (e)(2), (e)(4)(G), (e)(4)(H), (e)(4)(I), and (f).

The following are the reasons why the investigative material contained in the above-referenced systems of records maintained by TIGTA are exempt from various provisions pursuant to 5 U.S.C. 552a(k)(2).

(1) 5 U.S.C. 552a(c)(3) requires an agency to make accountings of disclosures of a record available to the individual named in the record upon his or her request. The accountings must state the date, nature, and purpose of each disclosure of the record and the name and address of the recipient. Making accountings of disclosures available to the subjects of investigations would alert them to the fact that TIGTA is conducting an investigation into their activities as well as identifying the nature, scope, and purpose of that investigation. The subjects of investigations, if provided an accounting of disclosures would be able to take measures to avoid detection or apprehension by destroying or concealing evidence that would form the basis for detection or apprehension.

(2) 5 U.S.C. 552a(d)(1), (e)(4)(H) and (f)(2), (3) and (5) grant individuals access to records pertaining to them. Disclosure of this information to the subjects of investigations would provide individuals with information concerning the nature and scope of any current investigation and may enable them to avoid detection or apprehension, enable them to destroy or alter evidence of criminal conduct that would form the basis for their arrest, and could impede or impair TIGTA's ability to investigate the matter. In addition, permitting access to investigative files and records could disclose the identity of confidential sources and the nature of the information supplied by the informant as well as endanger the physical safety of those sources by exposing them to possible reprisals for having provided the information. Confidential sources and informers might refuse to provide TIGTA with valuable information unless they believed that their identities would not be revealed through disclosure of their names or the nature of the information they supplied. Loss of access to such sources would seriously impair TIGTA's ability to perform its law enforcement responsibilities. Furthermore, providing access to records contained in the systems of records could reveal the identities of undercover law enforcement officers who compiled information regarding the individual's criminal activities and thereby endanger the physical safety of those undercover officers by exposing them to possible reprisals. Permitting access in keeping with these provisions would discourage other law enforcement and regulatory agencies, foreign and domestic, from freely sharing information with TIGTA and thus would restrict its access to information necessary to accomplish its mission.

(3) 5 U.S.C. 552a(d)(2), (3) and (4), (e)(4)(H), and (f)(4) permit an individual to request amendment of a record pertaining to the individual and require the agency either to amend the record, or to note the disputed portion of the record and to provide a copy of the individual's statement of disagreement with the agency's refusal to amend a record to persons or other agencies to whom the record is thereafter disclosed. Since these provisions depend upon the individual having access to his or her records, and since these rules exempt the systems of records from the provisions of 5 U.S.C. 552a relating to access to records, for the reasons set out in the preceding paragraph of this section, these provisions should not apply to the systems of records.

(4) 5 U.S.C. 552a(e)(1) requires an agency to maintain in its records only such information about an individual as is relevant and necessary to accomplish a purpose of the agency required to be accomplished by statute or executive order. The term “maintain,” as defined in 5 U.S.C. 552a(a)(3), includes “collect” and “disseminate.” The application of this provision could impair TIGTA's ability to collect and disseminate valuable law enforcement information. In the early stages of investigation, it may be impossible to determine whether information collected is relevant and necessary, and information that initially appears irrelevant and unnecessary often may, upon further evaluation or upon collection of additional information, prove particularly relevant and necessary to the investigation. Compliance with the records maintenance provisions would require TIGTA to periodically up-date the investigatory information it collects and maintains to insure that the records in these systems remain timely, accurate, and complete. Further, TIGTA oftentimes will uncover evidence of violations of law that fall within the investigative jurisdiction of other law enforcement agencies. To promote effective law enforcement, TIGTA will refer this evidence to other law enforcement agencies, including State, local and foreign agencies, that have jurisdiction over the offenses to which the information relates. If required to adhere to the provisions of 5 U.S.C. 552a(e)(1), TIGTA might be placed in the position of having to ignore information relating to violations of law not within its jurisdiction when that information comes to the TIGTA's attention during the collection and analysis of information in its records.

(5) U.S.C. 552a(e)(4)(G) and (f)(1) enable individuals to inquire whether a system of records contains records pertaining to them. Application of these provisions to the above-referenced systems of records would allow individuals to learn whether they have been identified as subjects of investigation. Access to such knowledge would impair TIGTA's ability to carry out its mission, since individuals could take steps to avoid detection and destroy or hide evidence needed to prove the violation.

(6) 5 U.S.C. 552a(e)(4)(I) requires an agency to publish a general notice listing the categories of sources for information contained in a system of records. Revealing sources of information could disclose investigative techniques and procedures, result in threats or reprisals against confidential informants by the subjects of investigations, and cause confidential informants to refuse to give full information to criminal investigators for fear of having their identities as sources disclosed.

Under 5 U.S.C. 552a(k)(5), the head of a Federal agency may promulgate rules to exempt a system of records from certain provisions of 5 U.S.C. 552a if the system of records is “investigatory material compiled solely for the purpose of determining suitability, eligibility, or qualifications for Federal civilian employment, military service, Federal contracts, or access to classified information” to the extent that the disclosure of such material would reveal the identify of a source who furnished information under an express promise that the identity of the source would be held in confidence. The Department of the Treasury proposes to exempt the DO .306 TIGTA—Recruiting and Placement Records systems of records from provisions 5 U.S.C. 552a(c)(3), (d), (e)(1), (e)(4)(G), (e)(4)(H), (e)(4)(I), and (f).

The following are the reasons why these systems of records maintained by TIGTA are exempt from various provisions pursuant to 5 U.S.C. 552a(k)(5).

(1) The sections of 5 U.S.C. 552a from which the systems of records are exempt include in general those providing for individuals' access to or amendment of records. When such access or amendment would cause the identity of a confidential source to be revealed, it would impair the future ability of TIGTA to compile investigatory material for the purpose of determining suitability, eligibility, or qualifications for Federal civilian employment, Federal contracts, or access to classified information. In addition, the systems shall be exempt from 5 U.S.C. 552a(e)(1) which requires that an agency maintain in its records only such information about an individual as is relevant and necessary to accomplish a purpose of the agency required to be accomplished by statute or executive order. To fulfill the requirements of 5 U.S.C. 552a(e)(1) would unduly restrict TIGTA in its information gathering inasmuch as it is often not until well after the investigation that it is possible to determine the relevance and necessity of particular information.

(2) If any investigatory material contained in the above-named systems becomes involved in criminal or civil matters, exemptions of such material under 5 U.S.C. 552a(j)(2) or (k)(2) is hereby claimed.

Under 5 U.S.C. 552a(k)(6), the head of a Federal agency may promulgate rules to exempt a system of records from certain provisions of 5 U.S.C. 552a if the system of records is “testing or examination material used solely to determine individual qualifications for appointment or promotion in the Federal service.” The Department of the Treasury proposes to exempt the DO.306—TIGTA Recruiting and Placement systems of records from provisions 5 U.S.C. 552a(c)(3), (d), (e)(1), (e)(4)(G), (e)(4)(H), (e)(4)(I), and (f).

The reason for exempting the system of records from various provisions pursuant to 5 U.S.C. 552a(k)(6) is that disclosure of the material in the system would compromise the objectivity or fairness of the examination process.

Any information from a system of records for which an exemption is claimed under 5 U.S.C. 552a(j) or (k) which is also included in another system of records retains the same exempt status such information has in the system for which such exemption is claimed.

The Department of the Treasury has determined that this proposed rule is not a “significant regulatory action” under Executive Order 13132.

Pursuant to the requirements of the Regulatory Flexibility Act, 5 U.S.C. 601-612, for the reasons set forth above, it is hereby certified that this rule will not have significant economic impact on a substantial number of small entities.

In accordance with the provisions of the Paperwork Reduction Act of 1995, 44 U.S.C. 3501 et seq., the Department of the Treasury has determined that this proposed rule would not impose new recordkeeping, application, reporting, or other types of information collection requirements.

List of Subjects in 31 CFR Part 1

Privacy.

Part 1 Subpart C of Title 31 of the Code of Federal Regulations is proposed to be amended as follows:

PART 1—[AMENDED]

1. The authority citation for part 1 continues to read as follows:

Authority: 5 U.S.C. 301, 31 U.S.C. 321, subpart A also issued under 5 U.S.C. 552, as amended. Subpart C also issued under 5 U.S.C. 552a.

2. Section 1.36 is amended as follows:

a. Paragraph (c)(1)(i) is amended by adding “DO .303-TIGTA General Correspondence; DO .307-TIGTA Employee Relations Matters, Appeals, Grievances, and Complaint Files; DO .308-TIGTA Data Extracts; DO .309-TIGTA Chief Counsel Case Files; DO .310-TIGTA Chief Counsel Disclosure Section Records” to the table in numerical order.

b. Paragraph (g)(1)(i) is amended by adding “DO .303-TIGTA General Correspondence; DO .307-TIGTA Employee Relations Matters, Appeals, Grievances, and Complaint Files; DO .308-TIGTA Data Extracts; DO .309-TIGTA Chief Counsel Case Files; DO .310-TIGTA Chief Counsel Disclosure Section Records” to the table in numerical order.

c. Paragraph (m)(1)(i) is amended by adding “DO .306-TIGTA Recruiting and Placement” to the table in numerical order.

d. Paragraph (o)(1) is amended by adding “DO .306-TIGTA Recruiting and Placement” to the table in numerical order. The additions to § 1.36 read as follows:

§ 1.36 Systems exempt in whole or in part from provisions of 5 U.S.C. 522a and this part.

* * * * *

(c) * * *

(1) * * *

(i) * * *

Number | System name
DO .303 | TIGTA General Correspondence.
DO .307 | TIGTA Employee Relations Matters, Appeals, Grievances, and Complaint Files.
DO .308 | TIGTA Data Extracts.
DO .309 | TIGTA Chief Counsel Case Files.
DO .310 | TIGTA Chief Counsel Disclosure Section Records.

* * * * *

(g) * * *

(1) * * *

(i) * * *

Number | System name
* * * * *
DO .303 | TIGTA General Correspondence.
DO .307 | TIGTA Employee Relations Matters, Appeals, Grievances, and Complaint Files.
DO .308 | TIGTA Data Extracts.
DO .309 | TIGTA Chief Counsel Case Files.
DO .310 | TIGTA Chief Counsel Disclosure Section Records.

* * * * *

(m) * * *

(1) * * *

(i) * * *

Number | System name
* * * * *
DO .306 | TIGTA Recruiting and Placement.

* * * * *

(O) * * *

(1) * * *

Number | System name
DO .306 | TIGTA Recruiting and Placement.

* * * * *

Dated: September 8, 2003.
W. Earl Wright, Jr.,
Acting Chief, Management and Administrative Programs Officer.

[FR Doc. 03-24055 Filed 9-18-03; 12:01 pm]

BILLING CODE 4810-04-P